ENVIRONMENTAL PROTECTION AGENCY

40 CFR Parts 174 and 180

[EPA-HQ-OPP-2021-0088; FRL-8792-04-OCSPP]

Receipt of Pesticide Petitions Filed for Residues of Pesticide Chemicals in or on Various Commodities (October 2021)

AGENCY: Environmental Protection Agency (EPA).

ACTION: Notices of filing of petitions and request for comment.

SUMMARY: This document announces the Agency's receipt of initial filings of pesticide petitions requesting the establishment or modification of regulations for residues of pesticide chemicals in or on various commodities.

DATES: Comments must be received on or before November 22, 2021.

ADDRESSES: Submit your comments, identified by docket identification (ID) number and the pesticide petition (PP) of interest as shown in the body of this document, online at http://www.regulations.gov. Follow the online instructions for submitting comments. Do not submit electronically any information you consider to be Confidential Business Information (CBI) or other information whose disclosure is restricted by statute. Additional instructions on commenting or visiting the docket, along with more information about dockets generally, is available at http://www.epa.gov/dockets.

Due to the public health concerns related to COVID-19, the EPA/DC and Reading Room is closed to visitors with limited exceptions. The staff continues to provide remote customer service via email, phone, and webform. For the latest status information on the EPA/DC and docket access, visit https://www.epa.gov/dockets.

FOR FURTHER INFORMATION CONTACT: Marietta Echeverria, Registration Division (7505P), main telephone number: (703) 305-7090, email address: RDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of pesticide petitions filed under section 408 of the Federal Food, Drug, and Cosmetic Act (FFDCA), 21 U.S.C. 346a, requesting the establishment or modification of regulations in 40 CFR part 174 or part 180 for residues of pesticide chemicals in or on various food commodities. The Agency is taking public comment on the requests before responding to the petitioners. EPA is not proposing any particular action at this time. EPA has determined that the pesticide petitions described in this document contain data or information prescribed in FFDCA section 408(d)(2), 21 U.S.C. 346a(d)(2); however, EPA has not fully evaluated the sufficiency of the submitted data at this time or whether the data supports granting of the pesticide petitions. After considering the public comments, EPA intends to evaluate whether and what action may be warranted. Additional data may be needed before EPA can make a final determination on these pesticide petitions.

Pursuant to 40 CFR 180.7(f), summaries of the petitions that are the subject of this document, prepared by the petitioners, are included in dockets EPA has created for these rulemakings. The dockets for these petitions are available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

A. Amended Tolerance Exemptions for Inerts (Except PIPS)

1. PP IN-11083. (EPA-HQ-OPP-2021-0659). Landis International, Inc., on behalf of Morse Enterprises Limited, Inc. d/b/a KeyPlex (P.O. Box 2515, Winter Park, FL 32790), requests to amend 40 CFR 180.920 to add α-terpineol (CAS No. 98-55-5) as a solvent inert ingredient in pesticide formulations at rates of 5% of the formulation when applied pre-harvest to crops. The petitioner believes no analytical method is needed because it is not required for an exemption from the requirement of a tolerance. Contact: RD.

2. PP IN-11530. (EPA-HQ-OPP-2021-0656). Spring Regulatory Sciences (6620 Cypresswood Dr., Suite 250, Spring, TX 77379), on behalf of BASF Corporation (100 Park Avenue, Florham Park, New Jersey 07932), requests to amend the current tolerance exemption description for alkyl alcohol alkoxylate phosphate and sulfate derivatives (AAAPSDs) to add alcohols, C10-16, ethoxylated, sulfates, mono(hydroxyethyl)ammonium salts (CAS No. 157627-92-4) to the approved tolerance exemptions under 40 CFR 180.910 and 180.930 for use in pesticide formulations. The petitioner believes no analytical method is needed because it is not required for an exemption from the requirement of a tolerance. Contact: RD.

3. PP IN-11552. (EPA-HQ-OPP-2021-0335). Celanese Corporation, Inc., 9502 Bayport Blvd., Pasadena, TX 77507, requests to amend tolerance exemption for low-risk polymer, Acetic acid ethenyl ester, polymer with ethene, N-(hydroxymethyl)-2-propenamide, and 2-propenamide (AM-E-NMA-VA), (CAS No. 49603-78-3) use as (a binder for non-woven wipes for use in disinfectant wipe products in pesticide formulations) to the approved tolerance exemptions under 40 CFR 180.960 for use in pesticide formulations. The petitioner believes no analytical method is needed because it is not required for an exemption from the requirement of a tolerance. Contact: RD.

4. PP IN-11566. (EPA-HQ-OPP-2021-0682) Spring Regulatory Sciences on behalf of Evonik Corporation, (P.O. Box 34628, Richmond, VA 23234), requests to amend the existing tolerance exemption to add additional food uses in antimicrobial formulations for Sodium dioctylsulfosuccinate (CAS No. 577-11-7) adding it to the approved list of food use inert ingredients under 40 CFR 180.940(a) for use in pesticide formulations. The petitioner believes no analytical method is needed because it is not required for an exemption from the requirement of a tolerance. Contact: RD.

B. Amended Tolerances for Non-Inerts

1. PP 0E8876. (EPA-HQ-OPP-2021-0130). Interregional Research Project No. 4 (IR-4), IR-4 Project Headquarters, Rutgers, The State University of NJ, 500 College Road East, Suite 201 W, Princeton, NJ 08540, requests to amend 40 CFR part 180 by removing established tolerances for residues of ethalfluralin, N-ethyl-N-(2-methyl-2-propenyl)-2,6-dinitro-4-(trifluoromethyl)benzenamine in or on the raw agricultural commodities Bean, dry, seed at 0.05 parts per million (ppm), pea, dry, seed at 0.05 ppm and potato at 0.05 ppm. Contact: RD.

2. PP 1E8898. (EPA-HQ-OPP-2021-0388). Interregional Research Project No. 4 (IR-4), IR-4 Project Headquarters, Rutgers, The State University of NJ, 500 College Road East, Suite 201 W, Princeton, NJ 08540, requests to amend 40 CFR 180.451 by removing established tolerances for the residues of tribenuron methyl, methyl-2-[[[[N-(4-methoxy-6-methyl-1,3,5-triazin-2-yl) methylamino] carbonyl] amino] sulfonyl] benzoate,] in or on the raw agricultural commodities: Canola, seed at 0.02 ppm; cotton, gin byproducts at 0.02 ppm; cotton, undelinted seed at 0.02 ppm; flax, seed at 0.02 ppm; and oat, hay at 0.05 ppm. Contact: RD.

3. PP 1E8904. (EPA-HQ-OPP-2021-0387). Interregional Research Project No. 4 (IR-4), IR-4 Project Headquarters, Rutgers, The State University of NJ, 500 College Road East, Suite 201 W, Princeton, NJ 08540, requests to amend 40 CFR part 180 by removing established tolerances for residues of the insecticide cyclaniliprole, 3-bromo-N-[2-bromo-4-chloro-6-[[(1-cyclopropylethyl)amino] carbonyl]phenyl]-1-(3-chloro-2-pyridinyl)-1H-pyrazole-5-carboxamide, including its metabolites and degradates, in or on the raw agricultural commodity: Vegetable, fruiting, group 8-10 at 0.20 ppm. Contact: RD.

4. PP 1E9805. (EPA-HQ-OPP-2021-0386). Interregional Research Project No. 4 (IR-4), IR-4 Project Headquarters, Rutgers, The State University of NJ, 500 College Road East, Suite 201 W, Princeton, NJ 08540, requests to amend 40 CFR part 180 by removing established tolerances for residues of the fungicide Pyriofenone, (5-chloro-2-methoxy-4-methyl-3-pyridinyl) (2,3,4-trimethoxy-6-methylphenyl) methanone, including its metabolites and degradates, in or on the raw agricultural commodity: Vegetable, fruiting, group 8-10 at 0.3 ppm. Contact: RD.

5. PP 1E8913. (EPA-HQ-OPP-2021-0385). Interregional Research Project No. 4 (IR-4), IR-4 Project Headquarters, Rutgers, The State University of NJ, 500 College Road East, Suite 201 W, Princeton, NJ 08540, requests to amend 40 CFR part 180 by removing established tolerances for residues of isofetamid, N-[1,1-dimethyl-2-[2-methyl-4-(l-methylethoxy)phenyl]-2-oxoethyl]-3-methyl-2-thiophenecarboxamide, including its metabolites and degradates, in or on the raw agricultural commodities: Pea and bean, dried shelled, except soybean, subgroup 6C at 0.040 ppm; Pea and bean, succulent shelled, subgroup 6B at 0.030 ppm; and vegetable, legume, edible podded, subgroup 6A at 1.50 ppm. Contact: RD.

6. PP 1E8931. (EPA-HQ-OPP-2021-0448). Interregional Research Project No. 4 (IR-4), IR-4 Project Headquarters, Rutgers, The State University of NJ, 500 College Road East, Suite 201 W, Princeton, NJ 08540, requests to amend 40 CFR part 180 by removing established tolerances for residues of the sum of trifloxystrobin, benzeneacetic acid, (E,E)-α-(methoxyimino)-2-[[[[1-[3-(trifluoromethyl) phenyl]ethylidene]amino]oxy]methyl]-methyl ester, and the free form of its acid metabolite CGA-321113, ((E,E)-methoxyimino-[2-[1-(3-trifluoromethyl-phenyl)-ethylideneaminooxymethyl]-phenyl]acetic acid, calculated as the stoichiometric equivalent of trifloxystrobin] in or on the raw agricultural commodities: Brassica, head and stem, subgroup 5A at 2.0 ppm; brassica, leafy greens, subgroup 5B at 30 ppm; fruit, citrus, group 10 at 0.6 ppm; fruit, pome at 0.5 ppm; fruit, stone, group 12 at 2 ppm; leaf petioles subgroup 4B at 9.0 ppm; leafy greens, subgroup 4A at 30 ppm; nut, tree, group 14 at 0.04 ppm; pea and bean, dried shelled, except soybean, subgroup 6C at 0.06 ppm; pistachio at 0.04 ppm; vegetable, fruiting at 0.5 ppm. Contact: RD.

C. New Tolerance Exemptions for Inerts (Except PIPS)

1. PP IN-11546. (EPA-HQ-OPP-2021-0635). Verdesian Life Sciences U.S., LLC, 1001 Winstead Drive, Suite 480, Cary, NC 27513, requests to establish an exemption from the requirement of a tolerance for residues of adipic acid (CAS Reg. No. 124-04-9) when used as an inert ingredient in pesticide formulations applied to growing crops under 40 CFR 180.920. The petitioner believes no analytical method is needed because it is not required for an exemption from the requirement of a tolerance. Contact: RD.

2. PP IN-11550. (EPA-HQ-OPP-2021-0613). Spring Regulatory Sciences, on behalf of Oxiteno USA, LLC, 3200 Southwest Freeway, Suite 1200, Houston, TX 77027, requests to establish an exemption from the requirement of a tolerance for residues of 1-propanaminium, 3-amino-N-(2-carboxyethyl)-N,N-dimethyl-, N-coco acyl derivatives, inner salts (CAS Reg. No. 499781-63-4) when used as an inert ingredient in pesticide formulations applied to crops pre- and post-harvest under 40 CFR 180.910. The petitioner believes no analytical method is needed because it is not required for an exemption from the requirement of a tolerance. Contact: RD.

3. PP IN-11585. (EPA-HQ-OPP-2021-0681). AgroSpheres, Inc., (1180 Seminole Trail, Charlottesville, VA, USA, 22901), requests to establish an exemption from the requirement of a tolerance for Escherichia coli K-12 derived micelles, a biologically derived inert ingredient under 40 CFR 180.910 for pre- or post-harvest use as an inert ingredient for all agriculture uses. The petitioner believes no analytical method is needed because it is not required for an exemption from the requirement of a tolerance. Contact: RD.

4. PP IN-11586. (EPA-HQ-OPP-2021-0680) BYK USA Inc., 524 South Cherry St., Wallingford, CT 06492, requests to establish an exemption from the requirement of a tolerance for Poly(oxy-1,2-ethanediyl)- -hydro- hydroxy-, polymer with poly(isocyanatoalkyl)benzene alkylol-blocked at (10,000 ppm)) under 40 CFR 180.960 for use in pesticide formulations. The petitioner believes no analytical method is needed because it is not required for an exemption from the requirement of a tolerance. Contact: RD

5. PP IN-11612. (EPA-HQ-OPP-2021-0639). Spring Regulatory Sciences (6620 Cypresswood Dr., Suite 250, Spring, TX 77379), on behalf of Colorants Solutions USA LLC (4000 Monroe Road, Charlotte, NC 28205), requests to establish an exemption from the requirement of a tolerance for 2,5-Furandione, polymer with ethenylbenzene, octyl imide, imide with polyethylene-polypropylene glycol 2-aminopropyl Me ether (CAS Number: 1812871-29-6), with a number average molecular weight of 11,000 daltons, when used as a pesticide inert ingredient (dispersing agent) in pesticide formulations under 40 CFR 180.960. The petitioner believes no analytical method is needed because it is not required for an exemption from the requirement of a tolerance. Contact: RD.

6. PP IN-11616. (EPA-HQ-OPP-2021-0636). Fine Agrochemicals Ltd., Hill End House, Whittington, Worcester WR5 2RQ, UK, requests to establish an exemption from the requirement of a tolerance for residues of adipic acid (CAS Reg. No. 124-04-9) when used as an inert ingredient in pesticide formulations applied to growing crops under 40 CFR 180.920. The petitioner believes no analytical method is needed because it is not required for an exemption from the requirement of a tolerance. Contact: RD.

D. New Tolerances for Non-Inerts

1. PP 0F8857. (EPA-HQ-OPP-2021-0290). Taminco US LLC, a subsidiary of Eastman Chemical Company, 200 S Wilcox Drive, Kingsport, TN 37660-5147, requests to establish a tolerance in 40 CFR part 180 for residues of the fungicide chlormequat chloride in or on the raw agricultural commodities barley grain at 8 ppm, eggs at 0.1 ppm, meat byproducts of cattle at 0.7 ppm; meat of cattle at 0.2 ppm; meat byproducts of goats at 0.7 ppm; meat of goats at 0.2 ppm, meat byproducts of hogs at 0.5 ppm; meat of hogs at 0.2 ppm, meat byproducts of sheep at 0.7 ppm; meat of sheep at 0.2 ppm, milk at 0.5 ppm; poultry meat byproducts at 0.1 ppm; poultry meat at 0.05 ppm; oat grain at 40 ppm, triticale grain at 5 ppm; and wheat grain at 5 ppm. The validated LC-MS/MS method is used to measure and evaluate the chemical residues of chlormequat chloride in plants and animal products. Contact: RD.

2. PP 0E8876. (EPA-HQ-OPP-2021-0130). Interregional Research Project No. 4 (IR-4), IR-4 Project Headquarters, Rutgers, The State University of NJ, 500 College Road East, Suite 201 W, Princeton, NJ 08540, requests to amend 40 CFR part 180 by establishing tolerances for residues of ethalfluralin, N-ethyl-N-(2-methyl-2-propenyl)-2,6-dinitro-4-(trifluoromethyl)benzenamine in or on the raw agricultural commodities Hemp, seed at 0.05 ppm, stevia, dried leaves at 0.05 ppm; vegetable, tuberous and corm, subgroup 1C at 0.01 ppm; individual crops of Proposed Crop Subgroup 6-18E: Dried shelled bean, except soybean, subgroup including Adzuki bean, dry seed at 0.05 ppm; African yam-bean, dry seed at 0.05 ppm; American potato bean, dry seed at 0.05 ppm; Andean lupin, dry seed at 0.05 ppm; asparagus bean, dry seed at 0.05 ppm; black bean, dry seed at 0.05 ppm; blackeyed pea, dry seed at 0.05 ppm; blue lupin, dry seed at 0.05 ppm; broad bean, dry seed at 0.05 ppm; catjang bean, dry seed at 0.05 ppm; Chinese longbean, dry seed at 0.05 ppm; cowpea, dry seed at 0.05 ppm; cranberry bean, dry seed at 0.05 ppm; crowder pea, dry seed at 0.05 ppm; dry bean, dry seed at 0.05 ppm; field bean, dry seed at 0.05 ppm; French bean, dry seed at 0.05 ppm; garden bean, dry seed at 0.05 ppm; goa bean, dry seed at 0.05 ppm; grain lupin, dry seed at 0.05 ppm; great northern bean, dry seed at 0.05 ppm; green bean, dry seed at 0.05 ppm; guar bean, dry seed at 0.05 ppm; horse gram, dry seed at 0.05 ppm; jackbean, dry seed at 0.05 ppm; kidney bean, dry seed at 0.05 ppm; lablab bean, dry seed at 0.05 ppm; lima bean, dry seed at 0.05 ppm; morama bean, dry seed at 0.05 ppm; moth bean, dry seed at 0.05 ppm; mung bean, dry seed at 0.05 ppm; navy bean, dry seed at 0.05 ppm; pink bean, dry seed at 0.05 ppm; pinto bean, dry seed at 0.05 ppm; red bean, dry seed at 0.05 ppm, rice bean, dry seed at 0.05 ppm; scarlet runner bean, dry seed at 0.05 ppm; southern pea, dry seed at 0.05 ppm; sweet lupin, dry seed at 0.05 ppm; sword bean, dry seed at 0.05 ppm; tepary bean, dry seed at 0.05 ppm; urd bean, dry seed at 0.05 ppm; vegetable soybean, dry seed at 0.05 ppm; velvet bean, seed, dry seed at 0.05 ppm; white lupin, dry seed at 0.05 ppm; white sweet lupin, dry seed at 0.05 ppm; winged pea, dry seed at 0.05 ppm; yardlong bean, dry seed at 0.05 ppm; yellow bean, dry seed at 0.05 ppm; yellow lupin, dry seed at 0.05 ppm; and individual crops of Proposed Crop Subgroup 6-18F: Dried shelled pea subgroup including: Chickpea, dry seed at 0.05 ppm; dry pea, dry seed at 0.05 ppm; field pea, dry seed at 0.05 ppm; garden pea, dry seed at 0.05 ppm; grass-pea, dry seed at 0.05 ppm; green pea, dry seed at 0.05 ppm; lentil, dry seed at 0.05 ppm; pigeon pea, dry seed at 0.05 ppm. Adequate analytical methods for determining ethalfluralin in/on appropriate raw agricultural commodities and processed commodities have been developed and validated. Contact: RD.

3. PP1E8898. (EPA-HQ-OPP-2021-0388). Interregional Research Project Number 4 (IR-4), IR-4 Project Headquarters, Rutgers, The State University of New Jersey, 500 College Road East, Suite 201 W, Princeton, NJ 08450, requests to establish tolerances in 40 CFR 180.451 for residues of the herbicide, tribenuron methyl, methyl-2-[[[[N-(4-methoxy-6-methyl-1,3,5-triazin-2-yl) methylamino] carbonyl] amino] sulfonyl] benzoate, in or on the following agricultural commodities: Rapeseed subgroup 20A at 0.02 ppm; cottonseed subgroup 20C at 0.02 ppm; individual commodities of proposed Crop Subgroup 6-18E: Dried shelled bean, except soybean, subgroup at 0.01 ppm including Adzuki bean, dry seed; African yam-bean, dry seed; American potato bean, dry seed; Andean lupin bean, dry seed; Asparagus bean, dry seed; black bean, dry seed; blackeyed pea, dry seed; blue lupin bean, dry seed; broad bean, dry seed; catjang bean, dry seed; Chinese longbean, dry seed; cowpea, dry seed; cranberry bean, dry seed; crowder pea, dry seed; dry bean, dry seed; field bean, dry seed; French bean, dry seed; garden bean, dry seed; goa bean, dry seed; grain lupin bean, dry seed; great northern bean, dry seed; green bean, dry seed; guar bean, dry seed; horse gram, dry seed; jackbean, dry seed; kidney bean, dry seed; lablab bean, dry seed; Lima bean, dry seed; morama bean, dry seed; moth bean, dry seed; mung bean, dry seed; navy bean, dry seed; pink bean, dry seed; pinto bean, dry seed; red bean, dry seed; rice bean, dry seed; scarlet runner bean, dry seed; southern pea, dry seed; sweet lupin bean, dry seed; sword bean, dry seed; tepary bean, dry seed; urd bean, dry seed; vegetable soybean, dry seed; velvet bean, seed, dry seed; white lupin bean, dry seed; white sweet lupin bean, dry seed; winged pea, dry seed; yardlong bean, dry seed; yellow bean, dry seed; and yellow lupin bean, dry seed; individual commodities of proposed Crop Subgroup 6-18F: Dried shelled pea subgroup at 0.01 ppm including chickpea, dry seed; dry pea, dry seed; field pea, dry seed; garden pea, dry seed; grass-pea, dry seed; green pea, dry seed; lentil, dry seed; and Pigeon pea, dry seed; pea, field, hay at 0.01 ppm; pea, field, vines at 0.01 ppm; individual commodities of proposed Crop Subgroup 15-20A: Wheat subgroup including amaranth, grain, forage at 0.3 ppm; amaranth, grain, grain at 0.05 ppm; amaranth, grain, hay at 0.5 ppm; amaranth, grain, straw at 0.1 ppm; amaranth, purple, forage at 0.3 ppm; amaranth, purple, grain at 0.05 ppm; amaranth, purple, hay at 0.5 ppm; amaranth, purple, straw at 0.1 ppm; cañihua, forage at 0.3 ppm; cañihua, grain at 0.05 ppm; cañihua, hay at 0.5 ppm; cañihua, straw at 0.1 ppm; chia, forage at 0.3 ppm; chia, grain at 0.05 ppm; chia, hay at 0.5 ppm; chia, straw at 0.1 ppm; cram cram, forage at 0.3 ppm; cram cram, grain at 0.05 ppm; cram cram, hay at 0.5 ppm; cram cram, straw at 0.1 ppm; huauzontle, grain, forage at 0.3 ppm; huauzontle, grain, grain at 0.05 ppm; huauzontle, grain, hay at 0.5 ppm; huauzontle, grain, straw at 0.1 ppm; inca wheat, forage at 0.3 ppm; inca wheat, grain at 0.05 ppm; inca wheat, hay at 0.5 ppm; inca wheat, straw at 0.1 ppm; princess feather, forage at 0.3 ppm; princess feather, grain at 0.05 ppm; princess feather, hay at 0.5 ppm; princess feather, straw at 0.1 ppm; psyllium, forage at 0.3 ppm; psyllium, grain at 0.05 ppm; psyllium, hay at 0.5 ppm; psyllium, straw at 0.1 ppm; psyllium, blond, forage at 0.3 ppm; psyllium, blond, grain at 0.05 ppm; psyllium, blond, hay at 0.5 ppm; psyllium, blond, straw at 0.1 ppm; quinoa, forage at 0.3 ppm; quinoa, grain at 0.05 ppm; quinoa, hay at 0.5 ppm; quinoa, straw at 0.1 ppm; rye, forage at 0.3 ppm; rye, grain at 0.05 ppm; rye, hay at 0.5 ppm; rye, straw at 0.1 ppm; triticale, forage at 0.3 ppm; triticale, grain at 0.05 ppm; triticale, hay at 0.5 ppm; triticale, straw at 0.1 ppm; wheat, club, forage at 0.3 ppm; wheat, club, grain at 0.05 ppm; wheat, club, hay at 0.5 ppm; wheat, club, straw at 0.1 ppm; wheat, common, forage at 0.3 ppm; wheat, common, grain at 0.05 ppm; wheat, common, hay at 0.5 ppm; wheat, common straw at 0.1 ppm; wheat, durum, forage at 0.3 ppm; wheat, durum, grain at 0.05 ppm; wheat, durum, hay at 0.5 ppm; wheat, durum, straw at 0.1 ppm; wheat, einkorn, forage at 0.3 ppm; wheat, einkorn, grain at 0.05 ppm; wheat, einkorn, hay at 0.5 ppm, wheat, einkorn, straw at 0.1 ppm; wheat, emmer, forage at 0.3 ppm; wheat, emmer, grain at 0.05 ppm; wheat, emmer, hay at 0.5 ppm; wheat, emmer, straw at 0.1 ppm; wheat, macha, forage at 0.3 ppm; wheat, macha, grain at 0.05 ppm; wheat, macha, hay at 0.5 ppm; wheat, macha, straw at 0.1 ppm; wheat, oriental, forage at 0.3 ppm; wheat, oriental, grain at 0.05 ppm; wheat, oriental, hay at 0.5 ppm; wheat, oriental, straw at 0.1 ppm; wheat, Persian, forage at 0.3 ppm; wheat, Persian, grain at 0.05 ppm; wheat, Persian, hay at 0.5 ppm; wheat, Persian, straw at 0.1 ppm; wheat, Polish, forage at 0.3 ppm; wheat, Polish, grain at 0.05 ppm; wheat, Polish, hay at 0.5 ppm; wheat, Polish, straw at 0.1 ppm; wheat, poulard, forage at 0.3 ppm; wheat, poulard, grain at 0.05 ppm; wheat, poulard, hay at 0.5 ppm; wheat, poulard, straw at 0.1 ppm; wheat, shot, forage at 0.3 ppm; wheat, shot, grain at 0.05 ppm; wheat, shot, hay at 0.5 ppm; wheat, shot, straw at 0.1 ppm; wheat, spelt, forage at 0.3 ppm; wheat, spelt, grain at 0.05 ppm; wheat, spelt, hay at 0.5 ppm; wheat, spelt, straw at 0.1 ppm; wheat timopheevi, forage at 0.3 ppm; wheat timopheevi, grain at 0.05 ppm; wheat timopheevi, hay at 0.5 ppm; wheat timopheevi, straw at 0.1 ppm; wheat, vavilovi, forage at 0.3 ppm; wheat, vavilovi, grain at 0.05 ppm; wheat, vavilovi, hay at 0.5 ppm; wheat, vavilovi, straw at 0.1 ppm; wheat, wild einkorn, forage at 0.3 ppm; wheat, wild einkorn, grain at 0.05 ppm; wheat, wild einkorn, hay at 0.5 ppm; wheat, wild einkorn, straw at 0.1 ppm; wheat, wild emmer, forage at 0.3 ppm; wheat, wild emmer, grain at 0.05 ppm; wheat, wild emmer, hay at 0.5 ppm; wheat, wild emmer, straw at 0.1 ppm; wheatgrass, intermediate, forage at 0.3 ppm; wheatgrass, intermediate, grain at 0.05 ppm; wheatgrass, intermediate, hay at 0.5 ppm; and wheatgrass intermediate, straw at 0.1 ppm; individual commodities of proposed Crop Subgroup 15-20B: Barley subgroup including Buckwheat, grain at 0.05 ppm; buckwheat, hay at 0.4 ppm; buckwheat, straw at 0.1 ppm; buckwheat, tartary, grain at 0.05 ppm; buckwheat, tartary, hay at 0.4 ppm; buckwheat, tartary, straw at 0.1 ppm; canarygrass, annual, grain at 0.05 ppm; canarygrass, annual, hay at 0.4 ppm; canarygrass, annual, straw at 0.1 ppm; oat, hay at 0.4 ppm; oat, abyssinian, grain at 0.05 ppm; oat, abyssinian, hay at 0.4 ppm; oat, abyssinian, straw at 0.1 ppm; oat, common, grain at 0.05 ppm; oat, common, hay at 0.4 ppm; oat, common, straw at 0.1 ppm; oat, naked, grain at 0.05 ppm; oat, naked, hay at 0.4 ppm; oat, naked, straw at 0.1 ppm; oat, sand, grain at 0.05 ppm; oat, sand, hay at 0.4 ppm; and oat, sand, straw at 0.1 ppm; individual commodities of proposed Crop Subgroup 15-20C: Field Corn subgroup including popcorn, forage at 0.15 ppm; popcorn, grain at 0.01 ppm; popcorn, stover at 1.1 ppm; teosinte, forage at 0.15 ppm; teosinte, grain at 0.01 ppm; and teosinte, stover at 1.1 ppm; individual commodities of proposed Crop Subgroup 15-20E: Grain Sorghum and Millet subgroup at 0.05 ppm; fonio, black, forage; fonio, black, grain; fonio, black, stover; fonio, white, forage; fonio, white, grain; fonio, white, stover; job's tears, forage; job's tears, grain; job's tears, stover; millet, barnyard, forage; millet, barnyard, grain; millet, barnyard, stover; millet, finger, forage; millet, finger, grain; millet, finger, stover; millet, foxtail, forage; millet, foxtail, grain; millet, foxtail, stover; millet, little, forage; millet, little, grain; millet, little, stover; millet, pearl, forage; millet, pearl, grain; millet, pearl, stover; millet, proso, forage; millet, proso, grain; millet, proso, stover; teff, forage; teff, grain; and teff, stover; and individual commodities of proposed Crop Subgroup 15-20F: Rice subgroup at 0.05 ppm including rice, African, grain; wild rice, grain; and wild rice, eastern, grain. A High-Performance Liquid Chromatograph-Mass Spectrometer (LC/MS/MS) was used to measure and evaluate the residues of tribenuron methyl. Contact: RD.

4. PP 1E8904. (EPA-HQ-OPP-2021-0387). Interregional Research Project No. 4 (IR-4), IR-4 Project Headquarters, Rutgers, The State University of NJ, 500 College Road East, Suite 201 W, Princeton, NJ 08540, requests to amend 40 CFR part 180 by establishing tolerances for residues of the insecticide cyclaniliprole, 3-bromo-N-[2-bromo-4-chloro-6-[[(1-cyclopropylethyl)amino]carbonyl]phenyl]-1-(3-chloro-2-pyridinyl)-1H-pyrazole-5-carboxamide, including its metabolites and degradates, in or on the raw agricultural commodities: Artichoke, globe at 1.5 ppm; pepper/eggplant 8-10B at 1.5 ppm; sunflower subgroup 20B at 0.4 ppm; and tomato subgroup 8-10A at 0.6. A practical analytical method for Cyclaniliprole and NK-1375 using Liquid Chromatography-MS/MS is available for analysis of all plant matrices. This method has been confirmed through independent laboratory validation and is available for enforcement purposes. Contact: RD.

5. PP 1E9805. (EPA-HQ-OPP-2021-0386). Interregional Research Project No. 4 (IR-4), IR-4 Project Headquarters, Rutgers, The State University of NJ, 500 College Road East, Suite 201 W, Princeton, NJ 08540, requests to amend 40 CFR part 180 by amending a tolerance for residues of the fungicide Pyriofenone, (5-chloro-2-methoxy-4-methyl-3-pyridinyl) (2,3,4-trimethoxy-6-methylphenyl)methanone, including its metabolites and degradates, in or on the raw agricultural commodities pepper/eggplant 8-10B at 2 ppm and tomato subgroup 8-10A at 0.3 ppm. A practical analytical method for Pyriofenone using Liquid Chromatography-MS/MS is available for analysis of crop commodities. This method has been confirmed through independent laboratory validation and is available for enforcement purposes. Contact: RD.

6. PP 1E8913. (EPA-HQ-OPP-2021-0385). Interregional Research Project No. 4 (IR-4), IR-4 Project Headquarters, Rutgers, The State University of NJ, 500 College Road East, Suite 201 W, Princeton, NJ 08540, requests to amend 40 CFR part 180 by establishing tolerances for residues of the fungicide isofetamid, N-[1,1-dimethyl-2-[2-methyl-4-(l-methylethoxy)phenyl]-2-oxoethyl]-3-methyl-2-thiophenecarboxamide including its metabolites and degradates, in or on the raw agricultural commodities ginseng, at 3 ppm; individual commodities of Proposed Crop Subgroup 6-19A: Edible podded bean legume vegetable subgroup including: Asparagus bean, edible podded at 0.6 ppm; catjang bean, edible podded at 0.6 ppm; Chinese longbean, edible podded at 0.6 ppm; cowpea, edible podded at 0.6 ppm; French bean, edible podded at 0.6 ppm; garden bean, edible podded at 0.6 ppm; goa bean, edible podded at 0.6 ppm; green bean, edible podded at 0.6 ppm; guar bean, edible podded at 0.6 ppm; jackbean, edible podded at 0.6 ppm; kidney bean, edible podded at 0.6 ppm; lablab bean, edible podded at 0.6 ppm; moth bean, edible podded at 0.6 ppm; mung bean, edible podded at 0.6 ppm; navy bean, edible podded at 0.6 ppm; rice bean, edible podded at 0.6 ppm; scarlet runner bean, edible podded at 0.6 ppm; snap bean, edible podded at 0.6 ppm; sword bean, edible podded at 0.6 ppm; urd bean, edible podded at 0.6 ppm; vegetable soybean, edible podded at 0.6 ppm; velvet bean, edible podded at 0.6 ppm; wax bean, edible podded at 0.6 ppm; winged pea, edible podded at 0.6 ppm; yardlong bean, edible podded at 0.6 ppm; individual commodities of Proposed Crop Subgroup 6-19B: Edible podded pea legume vegetable subgroup including: Chickpea, edible podded at 1.5 ppm; dwarf pea, edible podded at 1.5 ppm; edible podded pea at 1.5 ppm; grass-pea, edible podded at 1.5 ppm; green pea, edible podded at 1.5 ppm; lentil, edible podded at 1.5 ppm; pigeon pea, edible podded at 1.5 ppm; snap pea, edible podded at 1.5 ppm; snow pea, edible podded at 1.5 ppm; sugar snap pea, edible podded at 1.5 ppm; individual commodities of Proposed Crop Subgroup 6-19C: Succulent shelled bean subgroup including: Andean lupin, succulent shelled at 0.04 ppm; blackeyed pea, succulent shelled at 0.04 ppm; blue lupin, succulent shelled at 0.04 ppm; broad bean, succulent shelled at 0.04 ppm; catjang bean, succulent shelled at 0.04 ppm; cowpea, succulent shelled at 0.04 ppm; crowder pea, succulent shelled 0.04 ppm; goa bean, succulent shelled at 0.04 ppm; grain lupin, succulent shelled at 0.04 ppm; jackbean, succulent shelled at 0.04 ppm; lablab bean, succulent shelled at 0.04 ppm; lima bean, succulent shelled at 0.04 ppm; moth bean, succulent shelled at 0.04 ppm; scarlet runner bean, succulent shelled at 0.04 ppm; southern pea, succulent shelled at 0.04 ppm; sweet lupin, succulent shelled at 0.04 ppm; vegetable soybean, succulent shelled at 0.04 ppm; velvet bean, succulent shelled at 0.04 ppm; wax bean, succulent shelled at 0.04 ppm; white lupin, succulent shelled at 0.04 ppm; white sweet lupin, succulent shelled at 0.04 ppm; yellow lupin, succulent shelled at 0.04 ppm; individual commodities of Proposed Crop Subgroup 6-19D: Succulent shelled pea subgroup including: Chickpea, succulent shelled at 0.04 ppm; English pea, succulent shelled at 0.04 ppm; garden pea, succulent shelled at 0.04 ppm; green pea, succulent shelled at 0.04 ppm; lentil, succulent shelled at 0.04 ppm; pigeon pea, succulent shelled at 0.04 ppm; individual commodities of Proposed Crop Subgroup 6-19E: Dried shelled bean (except soybean), subgroup including: Adzuki bean, dry seed at 0.04 ppm; African yam-bean, dry seed at 0.04 ppm; American potato bean, dry seed at 0.04 ppm; Andean lupin bean, dry seed at 0.04 ppm; asparagus bean, dry seed at 0.04 ppm; black bean, dry seed at 0.04 ppm; blackeyed pea, dry seed at 0.04 ppm; blue lupin bean, dry seed at 0.04 ppm; broad bean, dry seed at 0.04 ppm; catjang bean, dry seed at 0.04ppm; Chinese longbean, dry seed at 0.04 ppm; cowpea, dry seed at 0.04 ppm; cranberry bean, dry seed at 0.04 ppm; crowder pea, dry seed at 0.04 ppm; dry bean, dry seed at 0.04 ppm; field bean, dry seed at 0.04 ppm; french bean, dry seed at 0.04 ppm; garden bean, dry seed at 0.04 ppm; goa bean, dry seed at 0.04 ppm; grain lupin bean, dry seed at 0.04 ppm; great northern bean, dry seed at 0.04 ppm; green bean, dry seed at 0.04ppm; guar bean, dry seed at 0.04 ppm; horse gram, dry seed at 0.04 ppm; jackbean, dry seed at 0.04 ppm; kidney bean, dry seed at 0.04 ppm; lablab bean, dry seed at 0.04 ppm; lima bean, dry seed at 0.04 ppm; morama bean, dry seed at 0.04 ppm; moth bean, dry seed at 0.04 ppm; mung bean, dry seed at 0.04 ppm; navy bean, dry seed at 0.04 ppm; pink bean, dry seed at 0.04 ppm; pinto bean, dry seed at 0.04 ppm; red bean, dry seed at 0.04 ppm; rice bean, dry seed at 0.04 ppm; scarlet runner bean, dry seed at 0.04 ppm; southern pea, dry seed at 0.04 ppm; sweet lupin bean, dry seed at 0.04 ppm; sword bean, dry seed at 0.04 ppm; tepary bean, dry seed at 0.04 ppm; urd bean, dry seed at 0.04 ppm; vegetable soybean, dry seed at 0.04 ppm; velvet bean, dry seed at 0.04 ppm; white lupin bean, dry seed at 0.04 ppm; white sweet lupin bean, dry seed at 0.04 ppm; winged pea, dry seed at 0.04 ppm; yardlong bean, dry seed at 0.04 ppm; yellow bean, dry seed at 0.04 ppm; yellow lupin bean, dry seed at 0.04 ppm; and individual commodities of Proposed Crop Subgroup 6-19F: Dried shelled pea subgroup including: Chickpea, dry seed at 0.04 ppm; dry pea, dry seed at 0.04 ppm; field pea, dry seed at 0.04 ppm; garden pea, dry seed at 0.04 ppm; grass-pea, dry seed at 0.04 ppm; green pea, dry seed at 0.04 ppm; lentil, dry seed at 0.04 ppm; pigeon pea, dry seed at 0.04 ppm. The LC-MS/MS method proposed for residue analysis of plants and plant products determines the residues of parent IKF-5411 and its metabolite, GPTC. Contact: RD.

7. PP 1E8931. (EPA-HQ-OPP-2021-0448). Interregional Research Project No. 4 (IR-4), IR-4 Project Headquarters, Rutgers, The State University of NJ, 500 College Road East, Suite 201 W, Princeton, NJ 08540, requests to amend 40 CFR part 180 by establishing tolerances for residues of the sum of trifloxystrobin, benzeneacetic acid, (E,E)-α-(methoxyimino)-2-[[[[1-[3- (trifluoromethyl) phenyl]ethylidene]amino]oxy]methyl]-methyl ester, and the free form of its acid metabolite CGA-321113, ((E,E)-methoxyimino-[2-[1-(3-trifluoromethyl-phenyl)-ethylideneaminooxymethyl]-phenyl]acetic acid, calculated as the stoichiometric equivalent of trifloxystrobin] in or on the raw agricultural commodities brassica, leafy greens, subgroup 4-16B at 30 ppm; celtuce at 9 ppm; fennel, Florence, fresh leaves and stalk at 9 ppm; fruit, citrus, group 10-10 at 0.6 ppm; fruit, pome, group 11-10 at 0.7; fruit, stone, group 12-12 at 3 ppm; kohlrabi at 2 ppm; leafy greens subgroup 4-16A at 30 ppm; leaf petiole vegetable subgroup 22B at 9 ppm; nut, tree, group 14-12 at 0.04 ppm; onion, bulb, subgroup 3-07A at 0.04 ppm; onion, green, subgroup 3-07B at 1.5 ppm; spice group 26 at 30 ppm; vegetable, brassica, head and stem, group 5-16 at 2 ppm; vegetable, fruiting, group 8-10 at 0.5 ppm; individual crops of Proposed Subgroup 6 18A: Edible podded bean legume vegetable subgroup including: Asparagus bean, edible podded at 1.5 ppm; catjang bean, edible podded at 1.5 ppm; Chinese longbean, edible podded at 1.5 ppm; cowpea, edible podded at 1.5 ppm; French bean, edible podded at 1.5 ppm; garden bean, edible podded at 1.5 ppm; goa bean, edible podded at 1.5 ppm; green bean, edible podded at 1.5 ppm; guar bean, edible podded at 1.5 ppm; jackbean, edible podded at 1.5 ppm; kidney bean, edible podded at 1.5 ppm; lablab bean, edible podded at 1.5 ppm; moth bean, edible podded at 1.5 ppm; mung bean, edible podded at 1.5 ppm; navy bean, edible podded at 1.5 ppm; rice bean, edible podded at 1.5 ppm; scarlet runner bean, edible podded at 1.5 ppm; snap bean, edible podded at 1.5 ppm; sword bean, edible podded at 1.5 ppm; urd bean, edible podded at 1.5 ppm; vegetable soybean, edible podded at 1.5 ppm; velvet bean, edible podded at 1.5 ppm; wax bean, edible podded at 1.5 ppm; winged pea, edible podded at 1.5 ppm; yardlong bean, edible podded at 1.5 ppm; individual crops of Proposed Subgroup 6-18E: Dried shelled bean, except soybean, subgroup including: Adzuki bean, dry seed at 0.06 ppm; African yam-bean, dry seed at 0.06 ppm; American potato bean, dry seed at 0.06 ppm; Andean lupin bean, dry seed at 0.06 ppm; asparagus bean, dry seed at 0.06 ppm; black bean, dry seed at 0.06 ppm; blackeyed pea, dry seed at 0.06 ppm; blue lupin bean, dry seed at 0.06 ppm; broad bean, dry seed at 0.06 ppm; catjang bean, dry seed at 0.06 ppm; Chinese longbean, dry seed at 0.06 ppm; cowpea, dry seed at 0.06 ppm; cranberry bean, dry seed at 0.06 ppm; crowder pea, dry seed at 0.06 ppm; dry bean, dry seed at 0.06 ppm; field bean, dry seed at 0.06 ppm; French bean, dry seed at 0.06 ppm; garden bean, dry seed at 0.06 ppm; goa bean, dry seed at 0.06 ppm; grain lupin bean, dry seed at 0.06 ppm; great northern bean, dry seed at 0.06 ppm; green bean, dry seed at 0.06 ppm; guar bean, dry seed at 0.06 ppm; horse gram, dry seed at 0.06 ppm; jackbean, dry seed at 0.06 ppm; kidney bean, dry seed at 0.06 ppm; lablab bean, dry seed at 0.06 ppm; lima bean, dry seed at 0.06 ppm; morama bean, dry seed at 0.06 ppm; moth bean, dry seed at 0.06 ppm; mung bean, dry seed at 0.06 ppm; navy bean, dry seed at 0.06 ppm; pink bean, dry seed at 0.06 ppm; pinto bean, dry seed at 0.06 ppm; red bean, dry seed at 0.06 ppm; rice bean, dry seed at 0.06 ppm; scarlet runner bean, dry seed at 0.06 ppm; southern pea, dry seed at 0.06 ppm; sweet lupin bean, dry seed at 0.06 ppm; sword bean, dry seed at 0.06 ppm; tepary bean, dry seed at 0.06 ppm; urd bean, dry seed at 0.06 ppm; vegetable soybean, dry seed at 0.06 ppm; velvet bean, dry seed at 0.06 ppm; white lupin bean, dry seed at 0.06 ppm; white sweet lupin bean, dry seed at 0.06 ppm; winged pea, dry seed at 0.06 ppm; yardlong bean, dry seed at 0.06 ppm; yellow bean, dry seed at 0.06 ppm; yellow lupin bean, dry seed at 0.06 ppm; and individual commodities of Proposed Crop Subgroup 6-18F: Dried shelled pea subgroup including: Chickpea, dry seed at 0.2 ppm; dry pea, dry seed at 0.2 ppm; field pea, dry seed at 0.2 ppm; garden pea, dry seed at 0.2 ppm; grass-pea, dry seed at 0.2 ppm; green pea, dry seed at 0.2 ppm; lentil, dry seed at 0.2 ppm; pigeon pea, dry seed at 0.2 ppm. A practical analytical methodology for detecting and measuring levels of trifloxystrobin in or on raw agricultural commodities has been submitted. Contact: RD.

8. PP 1F8930. (EPA-HQ-OPP-2021-0624). Bayer CropScience LP, 800 N Lindbergh Blvd., St. Louis, MO 63167, requests to establish a tolerance in 40 CFR part 180 for residues of the insecticide, Tetraniliprole [1-(3-chloro-2-pyridinyl)-N-[4-cyano-2-methyl-6-[(methylamino)carbonyl]phenyl]-3-[[5-(trifluoromethyl)-2H-tetrazol-2-yl]methyl]-1H-pyrazole-5-carboxamide], in or on soybean: seed at 0.2 ppm; hulls at 0.60 ppm; aspirated grain fractions at 45 ppm; hay at 0.20 ppm; and forage at 0.07 ppm. The high-performance liquid chromatography-electrospray ionization/tandem mass spectrometry (LC/MS/MS) is used to measure and evaluate the chemical Tetraniliprole. Contact: RD.

9. PP 1F8930. (EPA-HQ-OPP-2021-0624). Bayer CropScience LP, 800 N Lindbergh Blvd., St. Louis, MO 63167, requests to establish a tolerance in 40 CFR part 180 for residues of the insecticide, Tetraniliprole [1-(3-chloro-2-pyridinyl)-N-[4-cyano-2-methyl-6-[(methylamino)carbonyl]phenyl]-3-[[5-(trifluoromethyl)-2H-tetrazol-2-yl]methyl]-1H-pyrazole-5-carboxamide], in or on the raw agricultural commodities of Crop Group 15; cereal grains, except rice at 0.01 ppm and Crop Group 16; forage, fodder, and straw of cereal grains group, except field corn, popcorn, and sweet corn at 0.1 ppm. The high-performance liquid chromatography-electrospray ionization/tandem mass spectrometry (LC/MS/MS) is used to measure and evaluate the chemical Tetraniliprole. Contact: RD.

Authority: 21 U.S.C. 346a.

Dated: October 13, 2021.
Delores Barber,
Director, Information Technology and Resources Management Division, Office of Program Support.

[FR Doc. 2021-22970 Filed 10-20-21; 8:45 am]

BILLING CODE 6560-50-P